DEPARTMENT OF THE TREASURY

Office of Thrift Supervision

[AC-56 OTS No. H-4438]

Atlantic Coast Financial Corporation, Waycross, GA; Approval of Conversion Application

Notice is hereby given that on November 12, 2010, the Office of Thrift Supervision approved the application of Atlantic Coast Federal, MHC and Atlantic Coast Bank, Waycross, Georgia, to convert to the stock form of organization. Copies of the application are available for inspection by appointment (phone number: 202-906-5922 or e-mail Public.lnfo@OTS.Treas.gov) at the Public Reading Room, 1700 G Street, NW., Washington, DC 20552, and the OTS Southeast Regional Office, 1475 Peachtree Street, NE., Atlanta, Georgia 30309.

Dated: November 16, 2010.
By the Office of Thrift Supervision.
Sandra E. Evans,
Federal Register Liaison.

[FR Doc. 2010-29256 Filed 11-19-10; 8:45 am]

BILLING CODE 6720-01-M